DEPARTMENT OF THE INTERIOR

Fish and Wildlife Service

[FWS-R4-ES-2013-N038; 40120-1112-0000-F2]

Emergency Issuance of Endangered Species Permit

AGENCY: Fish and Wildlife Service, Interior.

ACTION: Notice.

SUMMARY: We, the Fish and Wildlife Service (Service), have waived the 30-day public notice period and have issued an endangered species permit to address emergency veterinary care for an injured green sea turtle (Chelonia mydas) in the U.S. Virgin Islands.

ADDRESSES: Documents and other information submitted with the permit are available for review, subject to the requirements of the Privacy Act and Freedom of Information Act, by any party who submits a written request for a copy of such documents to the following: U.S. Fish and Wildlife Service, 1875 Century Boulevard, Suite 200, Atlanta, GA 30345 (Attn: Cameron Shaw, Permit Coordinator).

FOR FURTHER INFORMATION CONTACT: Cameron Shaw, telephone 904-731-3191; facsimile 904-731-3045.

SUPPLEMENTARY INFORMATION: We have issued the following permit for activities with endangered and threatened species under section 10(a)(1)(A) of the Endangered Species Act of 1973, as amended (16 U.S.C. 1531 et seq.). We provide this notice under section 10(c) of the Act. Endangered Species Act regulations at title 50, Code of Federal Regulations (CFR) Part 17.22, allow us to waive public notice in an emergency situation where the life or health of an endangered animal is threatened and no reasonable alternative is available to the applicant.

Permit Application Number: TE-96401A.

Applicant: St. Thomas Response and Rehabilitation, Coral World Ocean Park, St. Thomas, Virgin Islands.

The permittee has been authorized to receive and retain, for greater than 45 days, a single green sea turtle for veterinary treatment or euthanasia under certain conditions.

Dated: February 15, 2013.
Kenneth A. Garrahan,
Acting Regional Director.

[FR Doc. 2013-04881 Filed 3-1-13; 8:45 am]

BILLING CODE 4310-55-P